Title 3—

The President

Proclamation 10228 of June 14, 2021

World Elder Abuse Awareness Day, 2021

By the President of the United States of America

A Proclamation

Older Americans make invaluable contributions to our families, our communities, and our Nation every day. But for far too many, the sacred promise of aging with dignity in America is broken by unconscionable incidents of abuse, neglect, or exploitation. On World Elder Abuse Awareness Day, Americans of all ages join the international community to raise awareness and help bring an end to elder abuse.

Elder abuse can take many forms, including financial, emotional, physical, or sexual abuse, as well as exploitation and neglect. Every year, one in ten Americans aged 60 and older experiences abuse—and for every case of elder abuse that comes to the attention of authorities, it is estimated that 23 cases are never brought to light. Since the start of the COVID-19 pandemic, we have also seen a chilling increase in hate crimes targeting Asian-Americans, many of whom have been elders. These attacks are shameful and deeply un-American.

Central to our Nation is the idea that we are all in this together, and that as Americans we owe one another a basic duty of care. The pandemic has both reinforced the importance of that duty and tested our capacity to meet it—the virus has exacerbated the quiet harm of social isolation among seniors around the world, a condition that makes abuse, neglect, and exploitation more likely. Having lost so many cherished seniors to this virus, we must recommit ourselves to fully including older Americans in our communities and systems of support. We must care for one another—and leave no one behind.

With over three-quarters of Americans 65 and over now fully vaccinated and more progress being made every day, the future for seniors is growing brighter and brighter. After a painful year, grandparents around the world are hugging their grandchildren again. Vaccinated seniors who were socially isolated are able to reengage with the broader community again. And as we begin to build back better, we are working to ensure that older Americans have greater opportunities to live with dignity, safety, independence, and social connections.

My Administration is committed to fulfilling that promise. That's why the American Rescue Plan included more than $1.4 billion in additional funding for programs that promote community living and ensure the safety and protection of older adults. The law also enhances the Elder Justice Act and ensures that Adult Protective Services can be used to protect the safety and dignity of all seniors. Additionally, the plan included new Medicaid funding to expand access to critical home and community-based health care services, and over $275 million for elder justice programs that address abuse, neglect, and exploitation. The American Jobs Plan and American Families Plan will further that progress, building up the care infrastructure that our economy and so many families depend on—expanding day programs for seniors, programs that bring care workers to seniors' homes to cook meals, and programs to help seniors get around their home safely and live more independently.

As we expand opportunities for older Americans, my Administration will also not tolerate elder abuse or hate in any form. I have instructed agencies across the Federal Government to do their part to combat elder abuse and support survivors. We are working to renew and strengthen the Violence Against Women Act, which also dedicates Federal funds to develop a more comprehensive approach to addressing abuse and neglect in later life, including through the funding of victim service providers, law enforcement, and prosecutors working to prevent and respond to domestic violence, sexual assault, and stalking experienced by older adults, whether caused by a spouse, family member, caregiver, or others. And this year, for the first time, the Federal Government has provided funding to Adult Protective Services programs in every State and Territory to support their critical, on-the-ground work investigating abuse and connecting victims to resources.

During World Elder Abuse Awareness Day, we also recognize the individuals who dedicate themselves to preventing elder abuse. All across our Nation, caregivers work to help older adults stay connected to their communities while preventing elder abuse and intervening if it occurs. These unsung heroes include family members, Adult Protective Services workers, social service providers, nonprofit victim services organizations, long-term care ombudspersons, law enforcement officers, judges and judicial personnel, legal professionals, health care professionals, and financial professionals.

On World Elder Abuse Awareness Day, we stand with all older Americans, and elderly people around the world, who are victims of elder abuse, neglect, and financial exploitation, and we recommit ourselves to protecting every senior's right to live their golden years with dignity and respect.

NOW, THEREFORE, I, JOSEPH R. BIDEN JR., President of the United States of America, by virtue of the authority vested in me by the Constitution and the laws of the United States, do hereby proclaim June 15, 2021, as World Elder Abuse Awareness Day. I call upon all Americans to work for elder justice by building inclusive communities that welcome people of all ages and abilities; by learning the warning signs of elder abuse, neglect, and exploitation; and by challenging age-related biases.

IN WITNESS WHEREOF, I have hereunto set my hand this fourteenth day of June, in the year of our Lord two thousand twenty-one, and of the Independence of the United States of America the two hundred and forty-fifth.

[FR Doc. 2021-13019

Filed 6-16-21; 11:15 am]

Billing code 3295-F1-P